ENVIRONMENTAL PROTECTION AGENCY

[EPA-HQ-OAR-2007-1184; FRL-8933-9]

Agency Information Collection Activities; Submission to OMB for Review and Approval; Comment Request; Emissions Certification and Compliance Requirements for Locomotives and Locomotive Engines (Renewal); EPA ICR No. 1800.06, OMB Control No. 2060-0392

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 21, 2009.

ADDRESSES: Submit your comments, referencing Docket ID No. EPA-HQ-OAR-2007-1184, to (1) EPA online using http://www.regulations.gov (our preferred method), by e-mail to a-and-r-Docket@epa.gov, or by mail to: EPA Docket Center, Environmental Protection Agency, Air and Radiation Docket and Information Center, Mail Code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Nydia Yanira Reyes-Morales, Environmental Protection Agency, 1200 Pennsylvania Avenue, NW., Mail Code 6403J, Washington, DC 20460; telephone number: 202-343-9264; fax number: 202-343-2804; e-mail address: reyes-morales.nydia@epa.gov.

SUPPLEMENTARY INFORMATION: EPA has submitted the following ICR to OMB for review and approval according to the procedures prescribed in 5 CFR 1320.12. On January 15, 2008 (73 FR 2487), EPA sought comments on this ICR pursuant to 5 CFR 1320.8(d). EPA received no comments during the comment period. Any additional comments on this ICR should be submitted to EPA and OMB within 30 days of this notice.

EPA has established a public docket for this ICR under Docket ID No. EPA-HQ-OAR-2007-1184, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http:www.regulations.gov.

Title: Emissions Certification and Compliance Requirements for Locomotives and Locomotive Engines (Renewal).

ICR Numbers: EPA ICR No. 1800.06, OMB Control No. 2060-0392.

Abstract: Title II of the Clean Air Act (42 U.S.C. 7521 et seq.) (CAA) charges EPA with issuing certificates of conformity for those engines that comply with applicable emission standards. Such a certificate must be issued before engines may be legally introduced into commerce. To apply for a certificate of conformity, manufacturers are required to submit descriptions of their planned production engines, including detailed descriptions of emission control systems and test data. There are also recordkeeping requirements. Manufacturers electing to participate in the Averaging, Banking and Trading Program are also required to submit information regarding the calculation, actual generation and usage of credits in an initial report, end-of-the-year report and final report. These reports are used for certification and enforcement purposes. The Act also mandates that EPA verify that manufacturers have successfully translated their certified prototypes into mass produced engines, and that these engines comply with emission standards throughout their useful lives. This is accomplished under the Production Line Testing (PLT) and In-use Testing Programs. Selective Enforcement Audits provide verification that test data submitted by engine manufacturers is reliable and testing is performed according to EPA regulations. Manufacturers must also keep records. This information is collected by the Heavy-Duty and Nonroad Engines Group (HDNEG), Compliance and Innovative Strategies Division (CISD), Office of Transportation and Air Quality, Office of Air and Radiation, U.S. Environmental Protection Agency. Besides CISD, this information could be used by the Office of Enforcement and Compliance Assurance and the Department of Justice for enforcement purposes. Confidential Business Information (CBI) is also disclosed in a public database and over the Internet. It is used by trade associations, environmental groups, and the public. The information is usually submitted in an electronic format, and it is stored in HDNEG's certification database. It has been estimated that a total of 10 locomotive and locomotive engine manufacturers and remanufacturers will respond to this collection with an approximate cost of $2,349,724.

Burden Statement: The annual public reporting and recordkeeping burden for this collection of information is estimated to average 91 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by these actions are manufacturers and remanufacturers of locomotives and locomotive engines.

Estimated Number of Respondents: 10.

Frequency of Response: Annually, quarterly, and occasionally.

Estimated Total Annual Hour Burden: 21,129.

Estimated Total Annual Cost: $2,349,724 includes $1,365,299 annualized O&M costs.

Changes in the Estimates: There is a slight decrease (159 hours) in the total estimated burden currently identified in the OMB Inventory of Approved ICR Burdens. This decrease is due to changes in the estimated number of new applications EPA expects to receive during the next three years as opposed to carry over applications.

Dated: July 16, 2009.
John Moses,
Director, Collection Strategies Division.

[FR Doc. E9-17395 Filed 7-21-09; 8:45 am]

BILLING CODE 6560-50-P